DEPARTMENT OF JUSTICE

Notice of Lodging of Proposed Settlement Agreement under the Comprehensive Environmental Response, Compensation, and Liability Act

On September 29, 2014, a proposed Consent Decree was lodged with the United States District Court for the Western District of Oklahoma in the case entitled U.S. v. Blackwell Zinc Company, Inc., et al., Case No. 5:14-cv-01050-M (W.D. Okla.).

The Consent Decree resolves claims in a Complaint filed the same day under the Comprehensive Environmental Response, Compensation, and Liability Act of 1980, 42 U.S.C. 9601 et seq., relating to the Blackwell Zinc Superfund Site located in Blackwell, Kay County, Oklahoma (the “Site”). The Complaint seeks the recovery of response costs at the Site against Blackwell Zinc Company, Inc. and the Blackwell Industrial Authority (“Settling Defendants”) and a declaratory judgment for future response costs. Under the proposed Consent Decree, Settling Defendants will pay EPA $547,931.39 in past response costs, i.e., costs incurred through August 31, 2013, as well as EPA's costs at the Site costs incurred after August 31, 2013 and through September 1, 2023.

The publication of this notice opens a period for public comment on the proposed Consent Decree. Comments should be addressed to the Assistant Attorney General, Environment and Natural Resources Division, and should refer to U.S. v. Blackwell Zinc Company, Inc., et al., Case No. 5:14-cv-01050-M (W.D. Okla.), D.J. Ref. No. 90-11-3-08495. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $8.75 (25 cents per page reproduction cost) payable to the United States Treasury.

Maureen Katz,
Assistant Section Chief, Environmental Enforcement Section, Environment and Natural Resources Division.

[FR Doc. 2014-23774 Filed 10-3-14; 8:45 am]

BILLING CODE 4410-15-P